MORRIS K. UDALL SCHOLARSHIP AND EXCELLENCE IN NATIONAL ENVIRONMENTAL POLICY FOUNDATION

The United States Institute for Environmental Conflict Resolution; Agency Information Collection Activities: Submission for OMB Review; Comment Request: See List of Evaluation Related ICRs in Section A

AGENCY: Morris K. Udall Scholarship and Excellence in National Environmental Policy Foundation, U.S. Institute for Environmental Conflict Resolution

ACTION: Notice.

SUMMARY: In compliance with the Paperwork Reduction Act and supporting regulations, this document announces that the U.S. Institute for Environmental Conflict Resolution (the U.S. Institute), part of the Morris K. Udall Foundation, is submitting to the Office of Management and Budget (OMB) six Information Collection Requests (ICRs). Five of the six ICRs are for revisions to currently approved collections due to expire 06/30/2005 (OMB control numbers 3320-0003, 3320-0004, 3320-0005, 3320-0006, and 3320-0007). One ICR pertains to a new collection request. The six ICRs are being consolidated under a single filing to provide a more coherent picture of information collection activities designed primarily to measure performance. The proposed collections are necessary to support program evaluation activities. The collection is expected neither to have a significant economic impact on respondents, nor to affect a substantial number of small entities. The average cost (in time spent) per respondent is estimated to be 0.16 hours/$6.18. Each ICR describes the authority and need for program evaluation, the nature and use of the information to be collected, the expected burden and cost to respondents and the U.S. Institute, and how the evaluation results will be made available. The ICRs also contain the specific questionnaires that will be used to collect the information for each program area. Approval is being sought for each ICR separately, and information collection will begin for each program area once OMB has approved the respective ICR. The U.S. Institute published a Federal Register notice on February 2, 2005, 70 FR, pages 5489-5494, to solicit public comments for a 60-day period. The U.S. Institute received one comment. The comment and the U.S. Institute's response are included in the ICRs. The purpose of this notice is to allow an additional 30 days for public comments regarding these ICRs.

DATES: Comments must be submitted on or before May 12, 2005.

ADDRESSES: Direct comments to: Office of Information and Regulatory Affairs, Office of Management and Budget (OMB), Attention: Keith Belton, 725 17th Street, NW., Washington, DC 20503, Desk Officer for The Morris K. Udall Scholarship and Excellence in National Environmental Policy Foundation, U.S. Institute for Environmental Conflict Resolution kbelton@omb.eop.gov.

FOR FURTHER INFORMATION CONTACT: Technical details of the U.S. Institute's program evaluation system are contained in a January 2005 design document entitled “Program Evaluation System at the U.S. Institute for Environmental Conflict Resolution”. Paper copies of this report can be obtained by contacting the U.S. Institute; an electronic copy can be downloaded from the U.S. Institute's website: http://www.ecr.gov/multiagency/program_eval.htm.

For further information or a copy of the ICRs, contact: Patricia Orr, Evaluation Coordinator, U.S. Institute for Environmental Conflict Resolution, 130 South Scott Avenue, Tucson, Arizona 85701, Fax: 520-670-5530, Phone: 520-670-5658, E-mail: orr@ecr.gov.

SUPPLEMENTARY INFORMATION:

Overview

To comply with the Government Performance and Results Act (GPRA) (Pub. L. 103-62), the U.S. Institute for Environmental Conflict Resolution, as part of the Morris K. Udall Foundation, is required to produce, each year, an Annual Performance Budget and an Annual Performance and Accountability Report, linked directly to the goals and objectives outlined in the U.S. Institute's five-year Strategic Plan. The U.S. Institute's evaluation system is key to evaluating progress towards achieving its performance commitments. The U.S. Institute is committed to evaluating all of its projects, programs and services not only to measure and report on performance but also to use this information to learn from and improve its services. The refined evaluation system has been carefully designed to support efficient and economical generation, analysis and use of this much-needed information, with an emphasis on performance measurement, learning and improvement.

As part of the program evaluation system, the U.S. Institute intends to collect specific information from participants in, and users of, several of its programs and services. Specifically, six programs and services are the subject of this Federal Notice: (1) Mediation and facilitation services; (2) situation/conflict assessment services; (3) training and workshop services; (4) facilitated meeting services; (5) the roster program services; and (6) program support and system design services. Evaluations will mainly involve administering questionnaires to process participants and professionals, as well as members and users of the National Roster. Responses by members of the public to the Institute's request for information (i.e., questionnaires) will be voluntary.

In 2003, the U.S. Environmental Protection Agency, Conflict Prevention and Resolution Center (CPRC) was granted the approval of the Office of Management and Budget (OMB) to act as a named administrator of the U.S. Institute's currently approved information collections for evaluation. The CPRC and the U.S. Institute are seeking approval as part of this proposed collection to continue this evaluation partnership. Other agencies have approached the U.S. Institute seeking (a) evaluation services and (b) assistance in establishing their own internal evaluation systems. In contrast to the U.S. Institute's relationship with CPRC, these agencies are requesting the U.S. Institute to administer its evaluation questionnaires on their behalf. Therefore, the U.S. Institute is requesting OMB approval to administer the evaluation questionnaires on behalf of other agencies. One agency, the Department of Interior (Office of Collaborative Action and Dispute Resolution) has already requested such evaluation services through its interagency agreement with the U.S. Institute. The U.S. Institute is seeking approval to make minor conforming revisions to questionnaires to allow for the broader application of the instruments (e.g., change return address on cover).

The burden estimates in the ICRs take into consideration the multi-agency usage of the evaluation instruments. The broad interest in the U.S. Institute's evaluation system has fostered an evaluation collaborative among several state and federal agencies. The sharing of evaluation resources and expertise is advantageous on several fronts: (a) Design and development efforts are not duplicated across agencies; (b) common methods for evaluating collaborative processes are established; (c) knowledge, expertise and resources are shared, realizing cost-efficiencies for the collaborating agencies; and (d) learning and improvement on a broader scale will be facilitated through the sharing of comparable multi-agency findings.

Key Issues

The U.S. Institute would appreciate receiving comments that can be used to:

i. Evaluate whether the proposed collection of information is necessary for the proper performance of the U.S. Institute, including whether the information will have practical utility;

ii. Determine whether the nature and extent of the proposed level of anonymity for those from whom the U.S. Institute will be collecting information is adequate and appropriate;

iii. Evaluate the accuracy of the U.S. Institute's estimate of the burden associated with the proposed information collection activities;

iv. Enhance the quality, utility, and clarity of the information to be collected;

v. Minimize the burden of the information collection on those who are to respond, including suggestions concerning use of automated collection techniques or other forms of information technology (e.g., allowing electronic submission of responses).

Burden

The average estimated burden for each response is 0.16 hours/$6.18. As used in this document, “burden” means the total time, effort, or financial resources expended by persons to generate, maintain, retain, disclose or provide information to or for a Federal Agency. This includes time needed to: Review instructions; develop, acquire, install, and utilize technology and systems for the purposes of collecting, validating, and verifying information, processing and maintaining information, and disclosing and providing information; adjust existing ways to comply with any previously applicable instructions and requirements; train personnel to be able to respond to a collection of information; search data sources; complete and review the collection of information; and transmit or otherwise disclose the information. Hour burdens are monetized using fully burdened labor rates derived from Bureau of Labor Statistics tables (U.S. Department of Labor, Bureau of Labor Statistics, “Employer Costs for Employee Compensation”, Table 2: Civilian workers, by occupational and industry group. Available at: http://www.ecr.gov/multiagency/program_eval.htm.

Technical Details

Five of the six submitted ICRs are for revisions to currently approved collections. In 1999, the U.S. Institute, in cooperation with the Policy Consensus Initiative and state alternative dispute resolution programs, began the task of designing a common program evaluation system. After extensively piloting the evaluation instruments under the currently approved information collection, staff from the U.S. Institute, PCI, Oregon Dispute Resolution Commission, Oregon Department of Justice, Florida Conflict Resolution Consortium, Environmental Protection Agency (Conflict Prevention and Resolution Center), and the Department of Interior (Center for Alternative Dispute Resolution) joined forces to refine the evaluation instruments (particularly the mediation and facilitation instruments). This effort also benefited from input from over 40 practitioners, program administrators, evaluators, researchers and trainers. Dr. Kathy McKnight and Dr. Lee Sechrest, the University of Arizona, assisted with this effort. Evaluation consultant, Dr. Andy Rowe, GHK International, guided the earlier evaluation design. Throughout this effort the William and Flora Hewlett Foundation provided financial assistance.

Technical details of the U.S. Institute's program evaluation system are contained in a January 2005 design document entitled “Program Evaluation System at the U.S. Institute for Environmental Conflict Resolution.” Paper copies of this report can be obtained by contacting the U.S. Institute; an electronic copy can be downloaded from the Institute's Web site: http://www.ecr.gov/multiagency/program_eval.htm.

Information generated from the evaluation system will be used for a variety of purposes, including performance measurement and reporting, and ongoing improvements to the design and operation of projects and services. Primary audiences for results from the evaluation system include the Udall Foundation Board of Trustees, Congress and OMB, and program management and staff, who will use the information in decision-making regarding program operations and directions. Secondary audiences will likely include practitioners in the field, process participants, prospective users, and members of the public.

A. List of ICRs Submitted

The U.S. Institute submitted six ICRs to OMB, corresponding to 11 individual questionnaires that will be administered to those involved in collaborative problem solving and conflict resolution activities. Five of the six ICRs are for revisions to currently approved collections. In the listing below, the questionnaires are organized into six activity areas, indicating the recipients of the questionnaires and, in parentheses, the frequency of administration per respondent.

Mediation/Facilitation Services (OMB control number 3320-0004, expiring 06/30/2005).

(1) Mediations/Facilitations—Participants, at the conclusion of the process (once).

(2) Mediations/Facilitations—Participants, subsequent to the conclusion of the process (once).

(3) Mediations/Facilitations—Facilitators/Mediators (Neutral Practitioners) at the conclusion of the process (once);

Situation/Conflict Assessment Services (OMB control number 3320-0003, expiring 06/30/2005).

(4) Assessment—Initiating Organizations and Key Participants, at the conclusion of the assessment (once).

(5) Assessment—Assessor (Neutral Practitioner) at the conclusion of the assessment (once);

Training and Workshop Services (OMB control number 3320-0006, expiring 06/30/2005).

(6) Training/Workshop—Participants, at the conclusion (once).

Facilitated Meeting Services (OMB control number 3320-0007, expiring 06/30/2005).

(7) Facilitated Meeting—Meeting Attendees, at the conclusion of the process (once);

Roster Program Services (OMB control number 3320-0005, expiring 06/30/2005).

(8) Roster—Members (once annually).

(9) Roster—Users, at the end of the search (once).

(10) Roster—Users, subsequent to the search (once);

Program Support and System Design Services (New collection request).

(11) Program Support and System Design—Agency Representatives and Key Participants, annually or at the conclusion of the project if the project is completed in less than 12 months (once annually for length of project).

B. Contact Individual for ICRs

Patricia Orr, Evaluation Coordinator, U.S. Institute for Environmental Conflict Resolution, 130 South Scott Avenue, Tucson, Arizona 85701, Fax: 520-670-5530, Phone: 520-670-5658, E-mail: orr@ecr.gov.

C. Confidentiality and Access to Information

The U.S. Institute is committed to providing agencies, researchers and the public with information on the effectiveness of collaborative problem solving and conflict resolution processes and the performance of the U.S. Institute's programs and services. Access to such useful information will be facilitated to the extent possible. The U.S. Institute will strive to report all information in an open and transparent manner. The U.S. Institute is also committed, however, to managing the collection and reporting of data so as not to interfere with any ongoing processes or the subsequent implementation of agreements. Project/case specific data will not be released until an appropriate time period has passed following conclusion of the project/case; such time periods will be determined on a case-by-case basis. Freedom of Information Act (FOIA) requests will also be evaluated on a case-by-case basis.

To encourage candor and responsiveness on the part of those completing the questionnaires, the U.S. Institute intends to report information obtained from questionnaires only in the aggregate at a case/project or program level. The U.S. Institute also intends to withhold the names of respondents and individuals named in responses. The U.S. Institute believes such information regarding individuals is exempt from disclosure under the Freedom of Information Act (FOIA), pursuant to exemption (b)(6) (5 U.S.C. Section 552(b)(6)), as the public interest in disclosure of that information would not outweigh the privacy interests of the individuals. Therefore, respondents will be afforded anonymity to the extent that names of respondents will not be revealed. Furthermore, no substantive case-specific information that might be confidential under statute, court order or rules, or agreement of the parties will be sought.

D. Information on Individual ICRs

Mediation/Facilitation Services

A variety of non-adversarial, participatory processes are available as adjuncts or alternatives to conventional forums for solving environmental problems or resolving environmental conflicts. Such collaborative processes range broadly depending on the nature of the problem/dispute and the parties involved as well as their context (for example, early on in planning processes, when seeking administrative relief, or during litigation). Under the right circumstances, a well-designed collaborative process facilitated or mediated by the appropriate mediator/facilitator (neutral practitioner) can effectively assist parties in reaching agreement on plans, proposals, and recommendations to solve their problem or resolve their dispute. Collaborative processes can also result in improvement in relationships among the parties, and increase capacity among the parties to manage or resolve the issue or dispute. The following survey instruments have been designed for use across the broad range of collaborative processes, be it a process to reach agreement on a plan or a set of recommendations or environmental mediation to resolve a dispute.

(1) Mediation/Facilitation Process—Participants End-of-Process Questionnaire; Revision of a currently approved collection; Abstract: Immediately following conclusion of a mediation/facilitation process, the participants that have been involved will be surveyed once, via questionnaire, to determine their views on a variety of issues. Topics to be investigated include: Are the parties now more likely to consider collaborative processes in the future; were the appropriate participants effectively engaged; did the participants have the capacity to engage in the process; was the mediator/facilitator that guided the process appropriate; and did all participants have access to relevant information? The voluntary questionnaire contains 27 questions requiring respondents to provide fill-in-the blank and open-ended responses. Information from the questionnaire will provide the opportunity to evaluate if the intended outcomes were achieved, and if so or not, why. Affected Entities: Entities potentially affected by this action are parties to the collaborative processes. Burden Statement: It is estimated that the annual national public burden and associated costs will be approximately 600 hours and $23,400 respectively. These values were calculated assuming that on average: (a) Participants require 20 minutes per questionnaire; (b) there are 12 respondents per case; (c) respondents are requested to complete this survey only once; and (d) there will be 150 cases evaluated each year. Cost burden estimates assume: (a) There are no capital or start-up costs for respondents, and (b) respondents’ time is valued at $39/hr.

(2) Mediation/Facilitation Process—Participants Follow-up Questionnaire; Revision of a currently approved collection; Abstract: To gain information concerning the longer-term effectiveness of the mediation/facilitation process, a follow-up questionnaire will be administered to the parties at a future date following conclusion of the process. Topics to be examined include: Do all participants perceive an improvement in their collective relationships; is the agreement durable. The voluntary questionnaire contains 12 questions requiring respondents to provide fill-in-the blank and open-ended responses. Information from the questionnaire will permit U.S. Institute staff to evaluate if the process outcomes were sustainable, and if not, why not. The information will also facilitate the assessment of the longer-term impacts of the collaborative processes and agreements. Affected Entities: Entities potentially affected by this action are participants to mediations/facilitations. Burden Statement: It is estimated that the annual national public burden and associated costs will be approximately 300 hours and $11,700, respectively. These values were calculated assuming that on average: (a) Participants require 10 minutes per questionnaire; (b) there are approximately 12 respondents per project; (c) respondents are asked to complete this questionnaire only once; and (d) there will be 150 cases evaluated each year. Cost burden estimates assume: (a) There are no capital or start-up costs for respondents, and (b) respondents' time is valued at $39/hr.

(3) Mediation/Facilitation Process—Mediator/Facilitator (Neutral Practitioner) Questionnaire; Revision of a currently approved collection; Abstract: Immediately following conclusion of a mediation/facilitation process, the mediator(s)/facilitator(s) will be surveyed once, via questionnaire, to determine their views on a variety of issues. Topics to be investigated include: Was the collaborative approach well suited to the nature of the issues in conflict; were all key parties consulted, and, were all key issues and alternatives properly identified and considered? In most cases, it will be specified in the mediator/facilitator contracts that they are required to complete the questionnaire. The mediator/facilitator questionnaire contains 34 questions. Information from this questionnaire will provide the opportunity to evaluate if the intended mediation/facilitation outcomes/impacts were achieved, and if so or not, why. Affected Entities: Entities potentially affected by this action are mediators/facilitators who are federal agency staff or contracted non-federal professionals. Burden Statement: It is estimated that the annual national public burden and associated costs will be approximately 100 hours and $3,900, respectively. These values were calculated assuming that on average: (a) Mediators/facilitators will require 30 minutes per questionnaire; (b) there are 2 respondents per project; (c) respondents are surveyed only once; and (d) there will be 100 cases evaluated each year (Note: The EPA's CPRC does not require ICR clearance to evaluate its cases using this instrument. The CPRC mediators/facilitators will be paid under contract to complete the evaluation questionnaires). Cost burden estimates assume: (a) There are no capital or start-up costs for respondents, and (b) respondents' time is valued at $39/hr.

Situation/Conflict Assessment Services

Situation or conflict assessments are conducted by a neutral party and include a series of confidential interviews in person or on the telephone with individuals or groups of parties. Through such assessments, assessors (neutral practitioners) identify and clarify key issues and parties, and assess the appropriateness of a mediation/facilitation process and its potential for helping the parties reach agreement. Assessment reports seek to clarify and communicate in a neutral manner the issues and concerns of all parties, and commonly conclude with process design recommendations intended to provide the parties with one or more options for effectively collaborating to find a solution to their conflict.

(4) Assessment—Initiating Organization/Key Participant Questionnaire; Revision of a currently approved collection; Abstract: Immediately following conclusion of a situation/conflict assessment process, the initiating agencies/organization(s) and key participants will be surveyed once via questionnaire to determine their views on a variety of issues. Topics to be investigated include: Was the conflict assessment approach well suited to the nature of the issues in conflict; was the selected assessor (neutral practitioner) appropriate for the assignment; were all key parties consulted, and, were all key issues and alternatives properly identified and considered? The voluntary questionnaire contains 11 questions requiring respondents to provide fill-in-the blank and open-ended responses. Information from the questionnaire provides the opportunity to: (a) Evaluate the performance for specific cases/projects; (b) evaluate the performance of assessment programs; and (c) use the evaluation feedback as a learning tool to improve the design of future assessment cases/projects. Affected Entities: Entities potentially affected by this action are individuals in initiating and other key organizations that participate in a conflict assessment. Burden Statement: It is estimated that the annual national public burden and associated costs will be approximately 62.5 hours and $2,437 respectively. These values were calculated assuming that on average: (a) Respondents require 10 minutes per questionnaire; (b) there are 5 respondents per project (c) respondents are surveyed only once; and (d) there will be 75 assessments evaluated each year. Cost burden estimates assume: (a) there are no capital or start-up costs for respondents, and (b) respondents’ time is valued at $39/hr.

(5) Assessment—Assessor (Neutral Practitioner) Questionnaire; Revision of a currently approved collection; Abstract: Immediately following conclusion of a situation/conflict assessment, the selected assessor(s) will be surveyed once via questionnaire to determine their views on a variety of issues. Topics to be investigated include: Was the conflict assessment approach well suited to the nature of the issues in conflict; was assisted negotiation recommended; and, was the recommendation followed? In most cases, it will be specified in the assessor's contract that the assessor will be required to complete the questionnaire. The assessor's questionnaire contains nine questions requiring respondents to provide fill-in-the blank and open-ended responses. Information from the questionnaire will permit the agency staff to evaluate the assessment process and outcomes, and learn from and improve the design of future assessment projects. Affected Entities: Entities potentially affected by this action are assessors who either are staff from or have been contracted by the agency. Burden Statement: It is estimated that the annual national public burden and associated costs will be approximately 5 hours and $195, respectively. These values were calculated assuming that on average: (a) Assessors require 6 minutes per questionnaire; (b) there is one respondent per project; (c) respondents are surveyed only once; and (d) there will be 50 assessments evaluated each year (Note: The EPA's CPRC does not require ICR clearance to evaluate its cases using this instrument. The CPRC assessors are paid under contract to complete the evaluation questionnaires). Cost burden estimates assume: (a) There are no capital or start-up costs for respondents, and (b) respondents' time is valued at $39/hr.

Training and Workshop Services

Training and workshop sessions are conducted by agency staff and contractors for a variety of audiences. The subject of training and workshop sessions varies widely, depending on the participants and their specific training needs. In general, the training and workshop sessions are designed to increase the appropriate and effective use of collaborative problem solving and conflict resolution processes.

(6) Training/Workshop—Participants Questionnaire, at the conclusion of the training/workshop; Revision of a currently approved collection; Abstract: Training participants will be asked to complete a voluntary questionnaire at the end of the training or workshop session. Participation is voluntary and the survey instrument contains seven questions, requiring responses to fill-in-the-blank and open-ended questions. Topics to be evaluated include whether: The training objectives were clear and understood by the participants; an appropriate trainer(s)/facilitator(s) guided the session; participants were engaged appropriately; participants gained unable knowledge. Affected Entities: Entities potentially affected by this action are individuals who participate in training/workshop sessions. Burden Statement: It is estimated that the annual national public burden and associated costs will be approximately 195 hours and $7,605, respectively. These values were calculated assuming that on average: (a) Training participants require 6 minutes to complete this questionnaire; and (b) there will be 1,950 participants evaluated each year. Cost burden estimates assume: (a) There are no capital or start-up costs for respondents, and (b) respondents’ time is valued at $39/hr.

Facilitated Meeting Services

Agency staff and contractors facilitate and provide leadership for many meetings, ranging from small group meetings to large public convenings of several hundred attendees. The purpose of the facilitated meetings varies widely, depending on the attendees and their specific meeting objectives.

(7) Meeting Facilitation—Participants Questionnaire, at the conclusion of the meeting; Revision of a currently approved collection; Abstract: Participants at facilitated meetings run by agency staff or contractors will be asked to complete a voluntary questionnaire at the conclusion of the meeting. The questionnaire used in this case contains seven questions, requiring fill-in-the blank and open-ended responses. Information from this questionnaire will help evaluate the effectiveness of meeting design, effectiveness of facilitator(s), and meeting accomplishments. Affected Entities: Entities potentially affected by this action are individuals who participate in these meetings. Burden Statement: It is estimated that the annual national public burden and associated costs will be approximately 351 hours and $13,689, respectively. These values were calculated assuming that on average: (a) Meeting attendees require 6 minutes to complete the questionnaire, and (b) there will be 3,510 participants evaluated each year. Cost burden estimates assume: (a) There are no capital or start-up costs for respondents, and (b) respondents’ time is valued at $39/hr.

Roster Program Services

The U.S. Institute has a full-time Roster Manager who supervises a Roster Program consisting of two main components: Design and operation of the National Roster of Environmental Dispute Resolution and Consensus Building Professionals and an associated referral system. Membership on the roster remains open to new applicants at all times. Potential members apply on-line and are required to provide information that demonstrates a level of training and experience adequate to meet specific, objective entry criteria. First constituted in February 2000, the roster currently includes over 250 members nationwide. When making referrals and locating neutral practitioners for sub-contracting, the U.S. Institute uses the roster as a primary source to identify experienced individuals, particularly in the locale of the project or dispute (as required by the U.S. Institute's enabling legislation). The public now has direct access to the roster search system via the Internet. When requested by any party, the Roster Manager also provides advice and assistance regarding selection of appropriate practitioners.

(8) Roster—Members Questionnaire; Revision of a currently approved collection; Abstract: On an annual basis roster members will be surveyed to evaluate their perceptions of the roster and to solicit their feedback on how the roster program can be improved. This voluntary questionnaire contains two questions, requiring fill-in-the blank and open-ended responses. Information from this questionnaire will permit U.S. Institute staff to evaluate how well the Roster is performing in meeting the needs of roster members. Affected Entities: Entities potentially affected by this action are roster members. Burden Statement: It is estimated that the annual national public burden and associated costs will be approximately 25 hours and $975, respectively. These values were calculated assuming that on average: (a) Roster members require 5 minutes per questionnaire; (b) 300 roster members will respond per year; (c) respondents are surveyed only once annually. Cost burden estimates assume: (a) There are no capital or start-up costs for respondents, and (b) respondents' time is valued at $39/hr.

(9) Roster—Questionnaire for Users After Each Roster Search; Revision of a currently approved collection; Abstract: Users who search the roster will be surveyed once for each new roster search. This voluntary questionnaire contains four questions, requiring simple fill-in-the blank and open-ended responses. Information from this questionnaire will permit U.S. Institute staff to evaluate how well the Roster is performing in meeting the needs of those searching the roster. Affected Entities: Entities potentially affected by this action are individuals who use the roster search system. Burden Statement: It is estimated that the annual national public burden and associated costs will be approximately 50 hours and $1,950 respectively. These values were calculated assuming that on average: (a) Roster searchers require six minutes to complete the questionnaire; (b) there will be 500 searches per year; and (c) searchers are asked to complete this questionnaire once per search. Cost burden estimates assume: (a) There are no capital or start-up costs for respondents, and (b) respondents' time is valued at $39/hr.

(10) Roster—User Questionnaire—Follow-Up to Search; Revision of a currently approved collection; Abstract: Users of the roster system will receive a follow-up questionnaire approximately four weeks after their search. This voluntary questionnaire contains five questions, requiring fill-in-the blank and open-ended responses. Information from this questionnaire will permit U.S. Institute staff to evaluate how well the roster program is performing to help users find appropriate practitioners. Affected Entities: Entities potentially affected by this action are individuals who use the roster search system. Burden Statement: It is estimated that the annual national public burden and associated costs will be approximately 17 hours and $663, respectively. These values were calculated assuming that on average: (a) Users will require four minutes to complete the questionnaire; (b) there will be 250 follow-up evaluations administered each year; and (c) searchers are asked to complete this questionnaire once per search. Cost burden estimates assume: (a) There are no capital or start-up costs for respondents, and (b) respondents' time is valued at $39/hr.

Program Support and System Design Services

The U.S. Institute provides leadership and assistance to agencies/organizations developing collaborative problem solving and dispute resolution programs and systems. Program development and dispute system design services include assistance with planning, developing, designing, implementing, evaluating, and/or refining federal environmental conflict resolution programs, systems for handling administrative disputes, or approaches for managing environmental decision making (e.g., with processes under the National Environmental Policy Act (NEPA)).

(11) Program Support and System Design Services—Questionnaire for Agency Representatives and Key Participants (annual survey for length of project);

New collection request; Abstract: Agency representatives and key project participants who request and receive U.S. Institute program support and system design services will be asked to complete a voluntary questionnaire containing seven questions. The questionnaire will require fill-in-the blank and open-ended responses. Affected Entities: Entities potentially affected by this action are individuals who benefit from program support and system design services from the U.S. Institute. Burden Statement: It is estimated that the annual national public burden and associated costs will be approximately six hours and $234, respectively. These values were calculated assuming that on average: (a) Agency representatives or key project participants require six minutes to complete the questionnaire; (b) there will be 60 responses each year; and (c) on average three agency representatives/key participants are involved in each initiative. Cost burden estimates assume: (a) There are no capital or start-up costs for respondents, and (b) respondents’ time is valued at $39/hr.

(Authority: 20 U.S.C. 5601-5609)

Dated: April 6, 2005.
Christopher L. Helms,
Executive Director, Morris K. Udall Foundation.

[FR Doc. 05-7278 Filed 4-11-05; 8:45 am]

BILLING CODE 6820-FN-P